DEPARTMENT OF LABOR

Employment and Training Administration

[TAA-65,253]

CB&I Inc., Warren, PA; Notice of Termination of Investigation

Pursuant to Section 221 of the Trade Act of 1974, as amended, an investigation was initiated on February 13, 2009, in response to a petition filed by the International Brotherhood of Boilermakers on behalf of workers of CB&I Inc., Warren, Pennsylvania.

The petitioner has requested that the petition be withdrawn. Consequently, the investigation has been terminated.

Signed at Washington, DC, this 26th day of March 2009.
Elliott S. Kushner,
Certifying Officer, Division of Trade Adjustment Assistance.

[FR Doc. E9-8920 Filed 4-17-09; 8:45 am]

BILLING CODE 4510-FN-P